DEPARTMENT OF TRANSPORTATION

Federal Highway Administration

Notice of Intent To Prepare a Draft Environmental Impact Statement for the Interstate 405 ExpressLanes Project, in Los Angeles County, California

AGENCY: Federal Highway Administration (FHWA), Department of Transportation (DOT).

ACTION: Notice of intent (NOI) to prepare a draft environmental impact statement for the Interstate 405 (I-405) ExpressLanes project.

SUMMARY: The FHWA, on behalf of the California Department of Transportation (Caltrans), is issuing this notice to advise the public that a Draft EIS will be prepared for the I-405 ExpressLanes project, a proposed highway project in Los Angeles County, California.

DATES: The formal scoping period has been extended and will occur from August 3 through October 1, 2021. The deadline for comments is 5:00 p.m. on October 1, 2021. Three virtual public scoping meetings have been held on:

• Saturday, August 14, 2021; 10 a.m.-12 p.m.

• Tuesday, August 17, 2021; 6-8 p.m.

• Wednesday, August 18, 2021; 11:30 a.m.-1:30 p.m.

ADDRESSES: The virtual meeting link was made available on the project website at www.metro.net/405expresslanes. A recording of one of the public scoping meetings, in English and in Spanish, is available for viewing via the interactive StoryMap on the project website.

FOR FURTHER INFORMATION CONTACT: For Caltrans, contact Ronald Kosinski, Deputy District Director, Division of Environmental Planning, Caltrans District 7, 100 S Main Street, MS 16A, Los Angeles, CA, 90012, (213) 507-4301, or email ron.kosinski@dot.ca.gov. For FHWA, contact David Tedrick, telephone (916) 498-5024, or email David.tedrick@dot.gov.

SUPPLEMENTARY INFORMATION: Effective July 1, 2007, FHWA assigned, and Caltrans assumed, environmental responsibilities for this project pursuant to 23 U.S.C. 327. Caltrans, as the assigned National Environmental Policy Act (NEPA) agency, will prepare a Draft EIS on a proposal for a highway improvement project in Los Angeles County, California.

The Project proposes to improve traffic conditions on Interstate 405 (I-405) starting in the south at Interstate 10 (I-10) and terminating in the north at U.S. Highway 101 (US-101). The proposed Project will reduce congestion, encourage carpooling and transit, improve trip reliability, reduce degradation of the carpool and general-purpose lanes, increase person throughput, and apply technology to help manage traffic. The range of improvements may include, but not be limited to, converting existing HOV lanes to ExpressLanes or adding an additional Express Lane in each direction and converting existing HOV lanes to ExpressLanes.

Currently, the following alternatives are being considered, all approximately 10 miles in length:

• Alternative 1: The No-Build/No Action Alternative does not include improvements to the existing lanes along I-405 between I-10 and US-101.

• Alternative 2: Convert Existing HOV to One ExpressLane (Standard Lane and Shoulder Widths). This build alternative would convert the existing HOV lane in each direction, along I-405 between I-10 and US-101, to an ExpressLane. The northbound and southbound directions of the freeway would be restriped within the existing footprint to accommodate one 12-foot wide ExpressLane with a 4-foot wide buffer separating the ExpressLane from the 12-foot wide general-purpose lanes. Dynamic pricing would be deployed in the ExpressLane to ensure trip reliability and traffic flow. Installation of toll and communication infrastructure and modification/installation of overhead signs would be required. Alternative 2 proposes to widen the freeway, where necessary, to accommodate an additional weave lane at ExpressLane ingress/egress locations and maintain stopping sight distance at curves. Non-standard inside shoulders would be maintained in a few locations where constraints exist, and standard 10-foot outside shoulders would be provided where possible. Retaining walls would be provided where required to minimize and avoid right-of-way (ROW) acquisition. Other improvements include construction of retaining walls and sound walls, utility improvements, and drainage improvements.

• Alternative 3: Convert Existing HOV Lane to Two ExpressLanes (Non-Standard Lane and Shoulder Widths). This build alternative would convert the existing HOV lane to an ExpressLane and add a second ExpressLane in each direction between I-10 and US-101. The freeway would be widened and restriped to accommodate the two ExpressLanes with a buffer separating the ExpressLanes from the general-purpose lanes. Dynamic pricing would be deployed in the ExpressLanes to ensure trip reliability and traffic flow. Installation of toll and communication infrastructure and modification/installation of overhead signs would be required. Alternative 3 proposes to widen the freeway to the outside in order to accommodate the proposed two-lane ExpressLane facility as described. Non-standard lanes and shoulders would be provided to accommodate for the addition of the new ExpressLanes as part of Alternative 3. Retaining walls would be provided where required to minimize and avoid ROW acquisition. The reduction of shoulder and lane widths allows for accommodation of the proposed two-lane ExpressLane facility without significant proposed roadway widening. However, in locations with the following conditions, additional roadway widening may be required:

• 12-foot wide weaving lane at ExpressLane ingress/egress locations.

• Widening of inside/outside shoulders to maintain sight distance.

Other improvements include construction of retaining walls and sound walls, utility improvements, and drainage improvements.

• Alternative 4: Convert Existing HOV Lane to Two ExpressLanes (Standard Lanes and Shoulder Widths). This build alternative would convert the existing HOV lane, between I-10 and US-101, to an ExpressLane in each direction, and a second ExpressLane in each direction would also be added, while providing standard lane widths, shoulder widths and stopping sight distances. The freeway would be widened and restriped to accommodate the two ExpressLanes with a buffer separating the ExpressLanes from the general-purpose lanes. Dynamic pricing would be deployed in the ExpressLanes to ensure trip reliability and traffic flow. Installation of toll and communication infrastructure and modification/installation of overhead signs would be required. Alternative 4 proposes to widen the freeway to the outside in order to accommodate the proposed standard two-lane ExpressLane facility as described. Retaining walls would be provided where required to minimize and avoid ROW acquisition. Reconstruction of some existing freeway structures would be required to implement Alternative 4's standard roadway cross-section. Other improvements include construction of retaining walls and sound walls, utility improvements, and drainage improvements.

• Alternative 5: Add an Additional HOV Lane (Non-standard Lane and Shoulder Widths). This build alternative would add an additional HOV lane, between I-10 and US-101, in each direction. The freeway would be widened and restriped to accommodate the two HOV lanes with a buffer separating the HOV lanes from the general-purpose lanes. Alternative 5 proposes to widen the freeway to the outside in order to accommodate the proposed two-lane HOV facility as described. Non-standard lanes and shoulders would be provided in order to accommodate for the addition of the new HOV lane as part of Alternative 5. Retaining walls would be provided where required to minimize and avoid ROW acquisition. The reduction of shoulder and lane widths allows for accommodation of the proposed two-lane HOV facility without significant proposed roadway widening. However, in locations with the following conditions, additional roadway widening may be required:

• 12-foot wide weaving lane at HOV ingress/egress locations.

• Widening of inside/outside shoulder to maintain sight distance.

Other improvements include construction of retaining walls and sound walls, utility improvements, and drainage improvements.

Anticipated Federal and State approvals include permits under the National Pollutant Discharge Elimination System (NPDES), Clean Water Act (CWA) Section 401 Water Quality, CWA Section 404 Nationwide Permit from the United States Army Corps of Engineers (USACE), California Fish and Game Code Section 1602 Lake or Streambed Alteration Agreement from the California Department of Fish and Wildlife (CDFW), Section 7 Consultation with the United States Fish and Wildlife Service (USFWS) for listed species under the Federal Endangered Species Act (FESA), and CDFW 2080.1 Consistency Determination for listed species under the California Endangered Species Act (CESA).

Letters describing the proposed action and soliciting comments have been sent to appropriate Federal, State, Participating Agencies, Tribal governments and groups, local agencies, and to private organizations and citizens who have previously expressed or are known to have interest in this proposal. The public scoping process officially began in August 2021. Virtual public scoping meetings were held in August 2021. Comments may be submitted during the public scoping period via mail, email, the project website comment form, or the project hotline. Submit comments by mail to the following address: Ron Kosinski, Deputy District Director, Caltrans District 7, 100 S Main Street, MS 16A, Los Angeles, CA 90012. Submit comments by email to 405expresslanes@metro.net. Submit comments via comment form on the project website at www.metro.net/405expresslanes. Submit oral comments by calling (213) 922-4860 to leave a voice recording. All comments must be received no later than October 1, 2021 at 5:00 p.m. In addition, a public hearing will be held once the Draft EIS is completed. Public notice will be given of the time and place of the meeting and hearing. The Draft EIS will be available for public and agency review and comment prior to the public hearing.

To ensure that the full range of issues related to this proposed action are addressed and all significant issues identified, comments, and suggestions are invited from all interested parties. Comments or questions concerning this proposed action and the EIS should be directed to Caltrans at the address provided above.

(Catalog of Federal Domestic Assistance Program Number 20.205, Highway Planning and Construction. The regulations implementing Executive Order 12372 regarding intergovernmental consultation on Federal programs and activities apply to this program.)

Issued on: September 1, 2021.
Rodney Whitfield,
Director, Financial Services, Federal Highway Administration, California Division.

[FR Doc. 2021-19314 Filed 9-3-21; 8:45 am]

BILLING CODE 4910-RY-P